GENERAL SERVICES ADMINISTRATION

Record of Decision (ROD)

AGENCY: General Services Administration.

ACTION: Notice.

SUMMARY: The General Services Administration (GSA), Public Buildings Service, Portfolio Management (9PT), has prepared a Record of Decision for the development of a new U.S. Courthouse in Los Angeles, CA.

The purpose of the proposed action is to meet the U.S. Courts' expansion need, and consolidate the U.S. Courts' operations into one location to increase efficiency and security.

FOR FURTHER INFORMATION CONTACT: Mr. Javad Soltani, Asset Manager, General Services Administration, Public Buildings Service, Portfolio Management, at (415) 522-3493.

SUPPLEMENTARY INFORMATION: The Record of Decision is as follows:

Record of Decision

The United States General Services Administration (GSA) has published a Final Environmental Impact Statement on the following project: Los Angeles U.S. Courthouse, Los Angeles, California.

GSA announces its decision in accordance with the National Environmental Policy Act (NEPA), 40 CFR parts 1500-1508 and the Regulations issued by the Council on Environmental Quality, November 29, 1978, to construct a new U.S. Courthouse.

I. Purpose and Need for the Proposed Action

Three major federal buildings are located in the downtown Los Angeles Civic Center area—the Federal Building at 300 North Los Angeles Street, the Edward R. Roybal Federal Building & Courthouse at 255 East Temple Street, and the historic U.S. Courthouse at 312 North Spring Street.

The existing federal buildings in downtown Los Angeles cannot adequately house the U.S. Courts and their specialized requirements. The U.S. Courts and courts-related agencies current space deficit greatly impacts their daily operations and the manner in which the judicial system is able to address its caseload. This has created a problem in achieving their mission to deliver justice efficiently and expeditiously in a safe and timely manner.

The “U.S. Courts (Los Angeles) Prospectus Development Study” (Kaplan et al., 1998) estimated that given projected case-loads, the U.S. Courts and courts-related agencies would need to expand from their current occupancy by 31 percent in 10 years. The existing federal buildings in downtown Los Angeles cannot provide this space and adequately house the U.S. Courts and their specialized requirements.

A “Stand-Alone Courthouse Site Evaluation” study was prepared in June 2000 by CH2M HILL. The evaluation concluded that a stand-alone courthouse was the only option that would meet the long-term needs of the U.S. Courts. None of the existing federal buildings would lend themselves to the extensive remodeling that is required by the U.S. Courts and court-related agencies. Additionally, the surrounding properties are unsuitable for construction of a new courthouse.

Therefore, the purposes for the proposed action are: (1) meet the U.S. Courts' expansion need, and (2) consolidate the U.S. Courts' operations into one location to increase efficiency and security.

II. Alternatives Examined

Prior to beginning this EIS there were several studies completed to analyze the feasibility of several alternative methods to meet the long-term needs of the U.S. Courts in Los Angeles.

The “U.S. Courts Feasibility Study and Master Plan: Los Angeles” was prepared in 1997 to assist GSA in determining a plan to meet the long-term needs of the U.S. Courts, Central District of California, in downtown Los Angeles. Agency requirements for function, operation, and adjacencies were considered as part of the process. Compliance with the U.S. Courts Design Guide was determined to be critical. For operational and functional reasons, it was determined that the preferred alternative must include all U.S. Courts in one complex.

A “Companion Courthouse Site Evaluation’ was prepared in May 2000 to document the site development consequences for sites being considered at the time by the GSA for a new companion courthouse. A companion courthouse would serve as an extension of the existing courthouse facilities in downtown Los Angeles by providing supplemental space. The consequences of this action that were considered in the evaluation included: conflicts with future city plans for the sites, potential for site contamination, tunneling costs, demolition costs and utility relocation, and other important issues determined through scoping.

Following this study, it was determined that a companion courthouse could not meet all of the criteria for the project, and a stand-alone building was the only option to meet the long-term requirements of the U.S. Courts. Finally, a “Stand-Alone Courthouse Site Evaluation” study was prepared in June 2000 to document the site development consequences for a new stand-alone courthouse.

Based on the previous studies and scoping process, the following alternatives were analyzed in the EIS:

Site A

Site A encompasses 3.11 acres of the city block bounded by West Temple Street, North Spring Street, West First Street, and North Broadway. Currently, Site A is occupied by a parking lot and vacant area where a building was once located. A mixture of office buildings generally characterizes the area surrounding Site A. The Los Angeles County Criminal Courts Buildings is located on the north half of the block. To the east, across North Spring Street, is the landmark City Hall building. To the south, across West First Street, is the historic art deco Los Angeles Times Mirror building. West, across North Broadway, are the Los Angeles County Law Library, Court of Flags, and Hall of Records. Site A is currently owned by Los Angeles County and the State of California and has a zoning designation of C-4 Commercial.

Site B

Site B is comprised of a full city block (3.75 acres) bounded by West First Street, South Broadway, West Second Street, and South Hill Street. Currently, Site B is occupied by the Junipero Serra State of California Office Building and an adjacent parking structure. The area surrounding Site B is generally characterized as a mixture of office buildings and privately owned parking lots. To the north of Site B, across West First Street, is the Los Angeles County Law Library. To the east, across South Broadway, is the historic art deco Los Angeles Times Mirror building. To the south, across West Second Street, are the Kawada Hotel and an office building. To the west, across South Hill Street, is a privately owned parking lot. Site B is currently owned by the State of California and has a zoning designation of C-4 Commercial.

Site C

Site C consists of a full city block (3.3 acres) bounded by West First Street, South Olive Street, West Second Street, and South Grand Avenue. Currently, Site C is occupied by an above ground parking structure. A mixture of public and private buildings and privately owned parking lots generally characterizes the area surrounding Site C. To the north of the site, across West First Street, is the Los Angeles County Courthouse. To the east, across South Olive Street, is a privately owned parking facility. To the south, across West Second Street, are the Colburn School of Performing Arts and a privately owned parking lot. To the west, across South Grand Avenue, is the future site of the Walt Disney Concert Hall (under construction).

No Action Alternative

Section 1502.14(d) of NEPA requires that a No Action Alternative be examined in the EIS. Under this alternative the U.S. Courts and federal agencies would continue to be housed in the Roybal Federal Buildings & Courthouse and U.S. Courthouse 312 North Spring. The Courts and court-related agencies would outgrow their existing facilities and not be able to expand. They would continue to operate under growing space deficits and caseload quantities would continue to increase.

Preferred Alternative

GSA has selected Site B as the preferred site for the new Los Angeles U.S. Courthouse. Site B best meets the need of GSA in providing a location for the U.S. Courthouse because the site provides the area that can accommodate the structure while meeting the security requirements of the U.S. Courthouse facility. In addition, Site B best fits the surrounding uses and proximity to adjacent court-related facilities that will provide for efficient court operations.

Site A would require variances for floor area ratio and height restrictions on portions of the site and would require exceptions to development restrictions related to the proposed open space mall associated with the Los Angeles Civic Center area.

Site C would require rezoning to accommodate the new Los Angeles U.S. Courthouse. The presence of the large-scale U.S. Courthouse would have a negative impact on the visual aspects associated with the Walt Disney Concert Hall on the adjacent block. In addition, parking at this location would be deficient in approximately 257 parking spaces within a ¼-mile radius based on the City of Los Angeles Parking Code.

Environmentally Preferable Alternative

The No Action Alternative is the environmentally preferable alternative, which results in the least damage to the environment. However, it does not meet the primary objective of meeting the projected needs of the U.S. Courts. The U.S. Courts would be required to utilize existing substandard facilities that do not meet U.S. Courts Design Guide.

III. Environmental Consequences and Mitigation

The following discussion presents the findings and mitigation identified in the EIS for Site B.

Geology and Landform

According to the California Department of Conservation Division of Mines and Geology Seismic Hazard Zones Map (March 25, 1999), Site B is located in an area where historic occurrence of liquefaction, or local geological, geotechnical and groundwater conditions indicate a potential for permanent ground displacements. Impacts are significant but mitigatable.

Mitigation. Mitigation for liquefaction potential is required in the building design as defined in Public Resources Code Section 2693(c). A comprehensive geotechnical survey of the site has been performed. Construction and building design measures recommended by the geotechnical study will be incorporated into the overall design of the building.

Hydrology

Site B is not located in a flood zone according to FEMA Flood Insurance Rate Maps. The site is located within La Brea Subarea sub-basin of the Central Groundwater Basin. Groundwater extends to a depth of at least 1,600 feet and includes several distinct water bearing aquifers. The depth to groundwater is estimated to be approximately 30 to 40 feet below the ground surface. Groundwater flow direction is to the south and southeast. According to the Los Angeles Hydrologic Basin Planning Map and the Water Quality Control Plan for the Los Angeles Basin, all aquifers in the project area are designated as being of beneficial use (LARWQCP, 1994).

Short-term impacts to hydrology were found to be significant, but mitigatable.

Mitigation. Construction plans will implement erosion and sediment control measures. Grading and other activities involving soil displacement should, to the extent feasible, be conducted during the dry season, May-October. A spill control and countermeasure plan will be prepared to properly address any spills of hazardous construction materials.

Vegetation and Wildlife

There have been no recorded occurrences of threatened, endangered, or sensitive plants, animals, or natural communities in the immediate vicinity Site B. Short-term and long-term impacts to vegetation and wildlife were found to be less than significant. Therefore, no mitigation measures are required.

Mitigation. None.

Shadows

On the summer solstice, June 21, the shadows cast by the proposed U.S. courthouse are smallest, and at noon and 3:00 PM only the streets and sidewalk areas adjacent to the proposed structure are impacted. At 9:00 AM the shadow from the proposed structure extends to the east and impacts small portions of the Kawada Hotel.

At the vernal and autumnal equinoxes (March 21 and September 21), the shadows cast by the proposed U.S. courthouse are longer than those at the summer solstice. In addition to the sidewalks, parking areas, and streets being shaded in the immediate vicinity of the proposed courthouse, the open parking lot to the west of Site B will be significantly shaded. At 3:00 PM, most of the Los Angeles County Law Library to the north of Site B will be shaded.

The shadows on the winter solstice (December 21) are long enough to block sunlight at several neighboring buildings. At 9:00 AM, the shadows from the proposed building extend west past Grand Avenue, almost completely shading the parking structure on Site C. At noon the shadows extend to the north and shade a small part of the lower floors of the County Courthouse and the surface parking lot on the other side of Hill Street. At 3:00 PM, the shadows extend northeast covering most of the Los Angeles County Law Library and approximately half of the Court of Flags, open spaces within the Civic Center area. This is considered an adverse affect since the cool winter temperatures will be amplified with the shading.

During most of the year the shading from the proposed U.S. courthouse at Site B does not pose a significant impact. However, the impact to open space areas at 3:00 PM on the winter solstice is adverse, and not mitigatable. The impact is significant.

Mitigation. None.

Air Quality

Published air quality monitoring data indicated ambient levels of PM10 that exceed the State ambient air standard were recorded at one of the monitoring stations located near the study area. The PM10 emissions are generated by mobile source exhaust, fugitive dust sources, and various industrial sources.

The study area is in a commercial zone surrounded by other commercial businesses. Most of the air pollution in this area is produced by vehicular traffic. The air quality in the Civic Center area of downtown Los Angeles may be affected by the construction of the new courthouse by contributing to the level of total suspended particulate (TSP), PM10, and ozone in the ambient air measured on a 24-hour or daily average.

Particulate matter, in the form of TSP and PM10, will be generated in the construction process. Ozone may be generated from the photochemical reaction of exhaust gases (CO and VOCs) in the atmosphere from mobile sources used during construction and vehicular traffic. Fugitive particulate matter emissions will be generated by various construction activities such as earthmoving, excavation, and grading operations. CO and VOC emissions will also be generated from the exhaust of the construction vehicles. Other organic gaseous emissions may be emitted from solvents, adhesives, non water-based paints, some insulation materials, and asphaltic material. These emissions contribute to the formation of ozone in the lower atmosphere.

Since Los Angeles County is in non-attainment for both PM10 and ozone, and since ambient air monitors near the study area have recorded elevated levels of these pollutants, control measures may be required to minimize air pollution generated from construction activities and building operations.

This project is expected to have a significant short-term impact on the regional air quality due to construction activities. These activities are expected to last from 3-4 years, and could elevate levels of ozone and PM during periods of peak activity. It is expected that long-term, non-construction related air quality impacts from this project could also be significant due to the vehicle trip generated by the courthouse employees, staff, and civil servants.

Construction Impacts

The emissions from construction activities are primarily from demolition, excavation, off-road mobile source equipment, and on-road motor vehicles (construction worker trips). The mitigation measures listed below are intended to minimize the emissions associated with construction activities. Construction activities to build the new courthouse would be subject to SCAQMD Rule 403, which requires application of best available control measures to reduce fugitive dust emissions.

Building Operations Impacts

The increase in 2,000 gross daily vehicle trips identified in the traffic section may result in potential significant impacts to air quality. This would elevate emission levels and contribute to increased pollutant levels in the project area.

SCAQMD Rule 2202 is designed to reduce mobile source emissions from employee commuting. This rule provides employers with options to meet an emission reduction target for their worksite. GSA promotes the Employee Commute Reduction Program and will provide a mass transit subsidy to its employees to reduce worker trips and vehicle emissions. This program reduces vehicles trips and miles traveled by implementing carpooling, rideshare programs, public transportation vouchers, and alternative transportation.

Mitigation

Construction-Related Mitigation Measures:

1. Restrict construction activities that affect traffic flow to off-peak hours

2. Route construction trips to avoid congested streets

3. Provide dedicated turn lanes for movement of construction equipment on- and off-site

4. Obtain electrical power from power poles instead of electrical generators

5. Use “clean” fuels for mobile construction equipment instead of diesel

6. Do not allow trucks to idle for more than two minutes

7. Water active portions of construction site daily

8. Apply non-toxic soil stabilizers to graded areas that are will be inactive for 10 days or more

9. Suspend excavation and grading when wind speeds (as instantaneous gusts) exceeds 25 miles per hour

10. Earth material transported off-site will be covered or trucks will maintain at least two feet of freeboard

11. Paved streets adjacent to the construction site shall be swept as needed to remove dust and silt that may have accumulated as a result of construction activities

12. Curtail all construction requiring heavy equipment during second stage smog alerts

The SCAQMD identified no feasible mitigation measures that could be implemented to reduce emissions associated with construction worker trips to and from construction sites. Health and Safety Code § 40929 specifically prohibits air districts and other public agencies from requiring an employee trip reduction program making such mitigation infeasible. Furthermore, the fact that most construction workers would be coming from different parts of the district makes carpooling impractical. No other feasible measures have been identified to reduce emissions from this source.

Building Operations Mitigation Measures:

1. Provide mass transit vouchers to all jurors located outside of the metropolitan Los Angeles area.

2. Provide mass transit information and schedules with each juror's information packet.

Noise

Site B is located in an urban environment, the Civic Center area of downtown Los Angeles. The majority of consistent existing noise levels are dominated by traffic related sources. The noise levels vary by time of day. Daytime noise levels are predominantly louder than nighttime noise levels, especially during peak morning and evening traffic periods.

There would be a minor increase in traffic volumes due to the construction of a new courthouse. From a noise perspective, this traffic increase should result in noise levels less than 3 dBA. A noise increase less than 3 dBA is not perceptible and no further studies or mitigation is recommended. The impact is adverse, but minor.

Mitigation. None.

Land Use

Site B covers a full city block bounded by West First Street, South Broadway, West Second Street, and South Hill Street. Currently, the Junipero Serra State of California Office Building and an adjacent parking structure occupy Site B.

The area surrounding Site B is primarily a mixture of office buildings and privately-owned parking lots. To the north of Site B, across West First Street, is the Law Library. To the east, across South Broadway, is the historic art deco Los Angeles Time mirror building. To the south, across West Second Street, are the Kawada Hotel and an office building. To the west, across South Hill Street, is a privately-owned parking lot.

This proposed alternative Site B is designated as Commercial District C-4. Retail activity is usually the primary focus of the Downtown Center, but it can also accommodate a wide range of uses, including public facilities such as the proposed courthouse building.

The proposed land use for Site B is consistent with local land use policies and compatible with the adjacent existing or proposed land use, therefore there are no adverse impacts.

Mitigation. None.

Commercial Activity

Employment in Los Angeles County grew by 2.1 percent in 1999 and is projected to grow in 2000 and 2001, but at a slightly slower rate. The University of California at Los Angeles (UCLA) Anderson forecast projects Los Angeles County employment growth of 2 percent in 2000 and 1.9 percent in 2001. The Los Angeles County Economic Development Corporation forecasts similar growth (1999 Real Estate Planning Guide, NAI, Inc. & Landauer Associates, Inc. 1999).

The Framework Element's economic development policies are designed to facilitate job growth by emphasizing that Los Angeles plays a proactive role in the retention and attraction of businesses in order to have a sufficient job base to maintain and enhance the quality of life. Two such policies include the concentration of commercial and office development in centers, corridors, and in proximity to transit stations and retain the City's employment base and an ongoing assessment of their specific land use requirements (General Plan of the City of Los Angeles, Framework Element, January 26, 2000).

Economic development and job opportunities in the downtown area are a key component to the City's General Plan. Construction of the proposed U.S. Courthouse at Site B would create new short-term and long-term employment in the area, thus increasing the aggregate level of disposable income. It would also create a stronger municipal tax base.

Per Southern California Association of Governments, the proposed project will result in a total direct, indirect and induced employment impact of nearly 7,000 jobs (1,391 jobs per year) over the five-year construction period. A total of 3,304 jobs would be in the construction sector with the other jobs coming from indirect purchases of goods and materials and induced spending from the wages paid to workers. The total impact on output from the project is $715 million (1997 dollars) or $143 million annually. The project would have a total impact on value added of $397 million or $79 million (1997 dollars) annually over the five-year construction period. The impact is beneficial.

Mitigation. None.

Real Estate & Socioeconomics

Upon completion of the new courthouse facility, consolidation of the federal agencies currently located in other buildings throughout the city will be used to backfill the existing facilities, thus providing an increase in the supply of rental office space throughout the city.

The implementation of the proposed project at Site B would not displace existing housing or retail/commercial tenants. The addition of employees and visitors to the area may provide additional opportunities to businesses in the area. The impact is beneficial.

Mitigation. None.

Demographics

Historically, the Central City has attracted only a small residential population. Currently, land-use policies are encouraging residential development in the city. The total housing stock of Central City has increased by over 800 units since 1996. The City will continue to offer opportunities for higher density residential development specifically in the Bunker Hill, Spring Street and South Park areas world (Annual Report on Growth and Infrastructure, Third Edition, 1999).

Economic development and job opportunities in the downtown area are a key component of the City's General Plan. Construction of the proposed U.S. Courthouse at Site B would create new short-term and long-term employment in the area, and may indirectly increase local population and a need for affordable housing. Employment and income would have both direct and indirect benefits for the area economy. Construction of the proposed U.S. Courthouse at Site B would result in overall beneficial impacts on the local economy.

Mitigation. None.

Archaeological Resources

The Junipero Serra State Office building and associated parking garage occupies the majority of this block. The only open space is on the southern one-third of the block. This area could not be surveyed because it is currently covered with asphalt. No archaeological resources were previously recovered within Site B. While archaeological sensitivity is not considered high for this site, there is the potential for small areas of undisturbed soil to yield either historic or prehistoric features. This impact has the potential to be significant, but mitigatable.

Mitigation. An archaeological and Native American monitor should be present during construction excavation. If any cultural resources are found, work should be halted in the area immediately until the resource can be assessed and treatment is determined through consultation under Section 106 of the NHPA. Depending on the resource(s) that are discovered, the impact may be significant.

If human remains are unearthed during construction, all activity must stop and a mitigation plan prepared to protect the remains. Additionally, the GSA Historic Official must immediately notify the State Historic Preservation Office (SHPO) by telephone, followed with written notification. The Native American tribe culturally affiliated with the geographic area must also be contacted by telephone and written correspondence. Activity at the site may resume thirty days after certification issued by the GSA Historic Official. This certification is contingent upon agreement between the GSA and the Native American Tribe for recovery of the remains.

Historic Resources

Site B exhibited a residential look in the early period. The 1888 Sanborn map recorded mostly single story dwellings and stores on the block. There were a number of changes by 1906. A two-story Police station and three-story jail sat on the northwest portion of the site. Several multi-story structures stood on the southern portion of the block, including the California Hotel, the Mason Opera House, and the Union League Club.

The block changed little over the next 40 years, but in the early 1960s, most of the northern portion of the block was cleared to make way for the Junipero Serra State Office Building. This L-shaped multi-story building was accompanied by a multi-level parking structure and together; they occupy the northern two-thirds of the block. The few storefronts that remained on the southern portion of the block were gone by 1970, replaced by a paved parking lot. The block looks much the same today as it did in 1970.

The area surrounding the block currently consists of the Los Angeles Times Building to the east, the Los Angeles Law Library to the north, four buildings to the south (including the Kawada Hotel and the Los Angles Law Center), and empty lots to the west.

On-Site Historic Resources

One building is situated on Site B, the Junipero Serra State Office Building. Although this structure is less than 50 years old, it was found potentially eligible based on its association with well-known architects, J.E. Stanton and William Stockwell. These architects also took part in designing several other public buildings in downtown Los Angeles and at the University of California at Los Angeles and the University of Southern California campuses.

Adjacent Historic Resources

Site B is bordered by several structures, which were examined for this study. Three buildings border the southern side of Site B. None of these buildings are considered eligible due to the fact that they are not associated with persons or events significant in history, do not represent an unusual architectural style, are not outstanding examples of their architectural style, or have lost integrity through alterations. Two buildings border the site and are considered eligible. One building adjacent to Site B was previously determined eligible for listing in the NRHP, and one other building is potentially eligible.

Neither of these buildings will be directly affected by the project, but potential indirect impacts must be considered. If these buildings retained their historical setting, construction of a new buildings could affect the setting. However, the historical setting of these buildings has not remained intact, since several buildings surrounding them are both newer and older than the structures in question. Construction of a new building adjacent to these buildings would not have an affect and no mitigation is necessary.

The Junipero Serra State Office Building is located on Site B. This building will be directly affected, as it will need to be demolished. Documentation and supplemental information were provided to the California Office of Historic Preservation. After reviewing that information, the State Historic Preservation Officer has determined that the Junipero Serra Office Building is not eligible for inclusion into the NRHP.

Mitigation. None.

Electricity

Existing electrical facilities consist of underground lines located along West First Street, South Broadway, West Second Street, and South Hill Street. The LADWP will supply power to this site through one of these underground lines.

Project implementation at Site B would result in the introduction of a federal courthouse with approximately 1,200,000 gross square feet (GSF), which in turn will increase the electrical demand onsite. The specific design is not available for the proposed courthouse; therefore, exact electrical demands could not be determined.

Construction of the proposed courthouse may require expansion of the substation serving the site. This expansion may cause some short-term service interruptions in the vicinity of the new courthouse. However, any interruption in service would be temporary and considered less than significant.

The project design should also be in accordance with applicable electrical codes, including the National Fire Protection Association Code, the National Electric Code, as well as City and County electrical codes. To maximize energy conservation, it is recommended that energy saving equipment be installed as stated in the energy conservation regulations contained in Title 24 of the California Code.

Impacts associated with providing electricity for the proposed alternative are considered to be less than significant.

Mitigation. None.

Natural Gas

Site B is serviced by underground high-pressure natural gas lines from both Broadway and 2nd Streets.

Project implementation at Site B would result in the introduction of a Federal Courthouse with approximately 1,200,000 gross square feet (GSF), thereby increasing natural gas demand onsite. Although natural gas consumption required by the proposed Courthouse has not been determined, demand would primarily be associated with heating of the facility.

It is not anticipated that the additional natural gas demands for the proposed project would adversely affect natural gas service in the project are. Therefore, impacts to natural gas associated with project implementation would be less than significant.

Mitigation. None.

Solid Waste

Site B is occupied by the State of California Office Building and an adjacent parking structure that will require removal of the structure, thus creating a larger increase in solid waster than would occur at the proposed Sites A and C. Special demolition and solid waste removal will be the responsibility of a contractor selected to perform the demolition and hauling of the materials to the City landfill.

Project implementation at Site B would result in the introduction of a Federal Courthouse land use with approximately 1,200,000 gross square feet (GSF), thereby increasing the solid waste generation onsite.

Solid waste generated at the proposed Site B would increase with the construction of a new courthouse. The overall amount of solid waste collected in the downtown area would not significantly increase, nor will it significantly impact the overall capacity of a landfill. There is an impact, but it is not significant.

Mitigation. GSA will implement a solid waste management program at the new courthouse.

Water Supply

The State of California Office Building is serviced from 1st Street by a twelve-inch water main, from Hill Street with a twelve-inch water main and from Broadway with an eight-inch water main.

Service to the site would have to be expanded, and would involve site connection to water lines located in the streets surrounding the site. Connection would be made utilizing standard construction connection procedures, and are not expected to result in any service interruption.

Project implementation at the site would result in the introduction of a Federal Courthouse land use with approximately 1,200,000 gross square feet (GSF), thereby increasing the water demand onsite. The infrastructure development will be evaluated along with the development proposal. Although it appears that the existing infrastructure is sufficient to serve any one of the alternatives, an infrastructure capacity evaluation will determine the need for any necessary system enhancements. Therefore, impacts to the water supply are considered to be less than significant.

Mitigation. None.

Wastewater

The City of Los Angeles Public Works Department indicates that the capacity of the existing sewer lines located at Site B are sufficient to accommodate existing flows, however, projected flows of the proposed courthouse must be evaluated during design before any upgrades to the sewer lines can be determined. There is an impact, but it is not significant.

Mitigation. None.

Police Protection

The proposed federal courthouse would not significantly increase the daytime population of the downtown area. The existing Roybal Federal Building & Courthouse and the U.S. Courthouse 312 North Spring will be backfilled by employees who are currently housed in other buildings throughout the region; therefore, the downtown population will increase by approximately 800 after implementation of the proposed project. This increase should not result in a significant level-of-service impact to the LAPD.

The Federal Protection Services (FPS) has legal jurisdiction over federal buildings and has law enforcement officers who usually are responsible for the interior of the building and the sidewalks surrounding the structure. Usually the FPS has a Memorandum of Understanding with the local police with the FPS and shares jurisdiction.

There will be a temporary need for security to protect against theft of equipment, trespassing and vandalism during construction. Standards security measures during construction activities include the installation of chain-link fencing around the perimeter of the project site, and securing of all construction equipment during periods of non-use.

So long as proper safety measures, such as well lighted and secure parking areas, are incorporated into the design, it does not appear that the proposed will have a direct impact on the LAPD's current police staffing numbers or their ability to provide adequate police protection.

Impacts associated with project implementation at this site are considered to be less than significant.

Mitigation. None.

Fire Protection

A fire flow rate of 12,000 gallons per minute is required for the Downtown Area and the average response time for Fire Stations, 3, 4 and 9 within the Downtown Area is within 5 minutes 90% of the time. With three fire stations possessing adequate manpower and equipment resources within close proximity to the site, the consideration of increased personnel and/or equipment would be unnecessary for the implementation of this project at Site B. However, the potential for construction related accidents could temporarily increase the utilization of these resources. A fire inspector is required to be onsite from the start of construction through final sign-off of the shall structure.

Fire flow to the downtown areas is considered to be adequate to serve high-rise structures located in the Downtown Area. However, fire flow calculations and flow test based upon final site design would be required in order to assure adequate fire flow is provided to the proposed project site.

The proposed courthouse at Site B should not require additional fire protection personnel and equipment; therefore impacts to fire protection services are considered less than significant.

Mitigation. None.

Traffic

During the AM peak hour signalized intersections in the study area operate at LOS D or better. With the exception of one unsignalized intersection, Grand Avenue at the 101 & I-110 ramps (LOS F), all of the unsignalized intersections operate at Los C or better.

During the PM peak hour, all of the signalized intersections were found to operate at LOS D or better. With the exception of one unsignalized interstation, Grand Avenue at the 101 & I-110 ramps (LOS F), all of the unsignalized intersections operate at LOS D or better.

From any location in the Civic Center area of downtown Los Angeles, public transit is located within one block. Generally, during the peak periods local bus lines operate on short headways ranging from 3 to 15 minutes. The express bus services range from single trips on the longer distance services to between 5 and 15 minutes on most other routes. Regional connectivity to sites A, B, and C is also provided via connections with the Metro Red and Blue Lines as well as Metrolink. Additional public transportation services are provided by taxicabs. These services are available at Taxi stands, generally located nearby major hotels or via radio dispatch.

With the project in place four intersections would operate at LOS E during the morning peak hour. The remaining intersections would operate at LOS D or better. Compared to the future baseline conditions (without project) there would be a worsening in the level of service at four intersections. Two intersections would go from LOS B to LOS C. Two intersections would go from LOS C to LOS D. Four intersections would be significantly impacted based on the City of Los Angeles Criteria. Three of these intersections would operate at LOS D or better. The forth, Olive Street at 1st Street, would (continue to) operate at LOS E.

At the unsignalized intersections, one of the intersections would continue to operate at LOS F.

At the signalized intersections during the PM peak hour, two intersections would operate at LOS E and one at LOS F. The remaining intersections would operate at LOS D or better. Compared to the future baseline conditions (without project) there would be a worsening in the level of service at four intersections. Three would go from LOS B to LOS C. One intersection would go from LOS D to LOS E. Three intersections would be significantly impacted based on the City of Los Angeles Criteria. Two of these intersections would operate at LOS D or better. One intersection, Main Street at Temple Street, would deteriorate from LOS D to LOS E.

At the unsignalized intersections, one of the intersections would continue to operate at LOS F.

In sum, during the morning peak hour, four intersections would be significantly impacted. During the evening peak hour, three intersections would be impacted. The impact is significant.

Mitigation. As noted in the traffic analysis, during the morning peak hour, four intersections would be significantly impacted. During the evening peak hour, three intersections would be impacted.

All but two of the intersections would operate at LOS of D or better. During the morning peak hour the intersection of Olive Street at 1st Street would operate at LOS E with the addition of project related traffic. This impact can be mitigated as follows:

• Restripe the westbound approach to accommodate a second westbound left turn lane.

• Construct a new traffic signal to provide protected left turn phasing for eastbound and westbound traffic.

The implementation of these measures would improve the LOS to D.

During the evening peak hour the intersection of Main Street/Temple Street would operate at LOS E with the addition of project related traffic. No feasible mitigation measures could be identified.

Parking

A parking analysis was conducted for the project site. The quarter-mile walking distance used in the analysis extends from just north of Temple Street in the north, almost to Los Angeles Street to the east, between 3rd and 4th Streets to the south, and almost to Hope Street to the west. There are 8,710 parking spaces in this walking zone. Of these, 89 percent of these are generally occupied resulting in about 997 available spaces.

The total code requirement for parking is 763 spaces. Site B will provide 352 spaces as part of the building structure, which means the remaining 411 spaces must be provided within the quarter-mile walking radius. In addition, the structure itself will displace some 125 spaces resulting in a net parking requirement of 536 spaces (411 plus the displaced 125 spaces). Thus, there will be an excess of 461 spaces within the “walking distance” area. There are no adverse impacts.

Mitigation. None.

Hazardous Materials

The Junipero Serra State Office Building and state-owned parking garage are listed with the appropriate regulatory agencies as small quantity generators of non-acutely hazardous waste, and as underground storage tank sites. The listing of this facility as a small quantity generator implies that the facility is operating in accordance with local regulations regarding the generation of hazardous waste.

Historically, Site B contained several businesses that may have been engaged in hazardous waste activities. One gasoline/oil station occupied 102 South Hill Street from at least 1950-1955. A print shop occupied 311 West Second Street from at least 1906-1960. An additional print shop is depicted at 315 West Second Street on a 1906 Sanborn Map. Asbestos containing material (ACM) has been identified throughout the building in pipe wrapping, heat exchanger wrapping, and used as sprayed-on sound and fire proofing. The ACM observed was in generally good condition.

Soil and groundwater analytical results for gasoline, diesel, heavy hydrocarbons, and volatile organic compounds were below the detection limit for all of the analyses tested. Soil samples analyzed for Title 22 Metals had concentrations that were significantly less than the California Title 22 Hazardous Waste threshold.

Lead-based paint was detected in multiple locations within the building at 107 South Broadway Street including the boiler room, stairwells, and restrooms.

There are adverse impacts, but they are mitigatable.

Mitigation. The Phase I Environmental Site Assessment dated November 22, 2000 and the Phase II Subsurface Investigated dated January 2001 at Site B, recommends the following remediation measures take place prior to construction.

• Based on the nature of activities at the Site (vehicle service and multiple underground storage tanks), additional concerns may be identified during any construction or demolition activities. The reports also recommend that personnel trained in hazardous materials and the identification of environmental issues is present at the Site during any construction or demolition activities.

• There are currently four (4) underground storage tanks (USTs) located on the Site. One 5,000-gallon steel tank with diesel fuel is located along the east side of the Junipero Serra State Building (107 South Broadway Street). Three 10,000 fiberglass USTs (diesel and unleaded gasoline) are located underneath the sidewalk at the parking garage. All of the tanks appear to be encased within vaults; therefore, subsurface sampling in the areas of the tanks was not performed. Based on the information obtained during the Phase I Assessment, none of these tanks are currently in use. The reports recommend that all of the underground storage tanks on-site be removed or returned to service (upgrading required) in accordance with appropriate local and state regulations.

• Approximately 19 hydraulic lifts are located on the bottom floor of the parking garage (122 South Hill Street). One of the lifts is not functioning and has a vault flooded with a substance with motor oil characteristics (Section 4.2). The reports recommend that the lift be repaired or removed in accordance with appropriate regulations. In addition, the fluid contained within the lift should be removed, as it is a threat to soil and groundwater in the area.

Asbestos containing material (ACM) and lead-based paint has been documented at the Site. Prior to any demolition/construction activities, all ACM and lead-based paint should be abated in accordance with appropriate local and state regulations. The results and recommendations contained in the Limited Lead-Based Paint Inspection Report and any ACM reports at the Junipero Serra State Building should be provided to any individuals involved in the disruption of any painted surfaces or ACM.

IV. Conclusion

The General Services Administration believes there are no additional outstanding issues to be resolved with respect to the proposed project. GSA will proceed with construction of the Los Angeles U.S. Courthouse at Site B and incorporate all the mitigation measures identified, with the exception of those associated with traffic impacts. The traffic mitigation measures will be implemented by others and are beyond the control of GSA.

Dated: August 22, 2002.
Peter G. Stamison,
Regional Administrator, Pacific Rim Region.

[FR Doc. 02-24200 Filed 9-23-02; 8:45 am]

BILLING CODE 6820-34-M